GENERAL SERVICES ADMINISTRATION

Office of Communications; Revision of SF 82, Agency Report of Motor Vehicle Data

AGENCY: Office of Communications, GSA.

ACTION: Notice.

SUMMARY: The General Services Administration (GSA), Office of Governmental Policy revised the SF 82, Agency Report of Motor Vehicle Data to a fully automated system accessed through the internet.

FOR FURTHER INFORMATION CONTACT: Ms. Lois Mandell, General Services Administration, (202) 501-2824 for access to the internet and program questions.

DATES: Effective October 9, 2001.

Dated: September 28, 2001.
Barbara M. Williams,
Deputy Standard and Optional Forms Management Officer, General Services Administration.

[FR Doc. 01-25228 Filed 10-5-01; 8:45 am]

BILLING CODE 6820-34-M